DEPARTMENT OF TRANSPORTATION

Federal Highway Administration

Notice of Final Federal Agency Actions on Proposed Highway in California

AGENCY: Federal Highway Administration (FHWA), DOT.

ACTION: Notice of Limitation on Claims for Judicial Review of Actions by FHWA and other Federal agencies.

SUMMARY: This notice announces actions taken by the FHWA and other Federal agencies that are final within the meaning of 23 U.S.C. 139(I)(1). These actions relate to a proposed highway project. U.S. Route 101 Willits Bypass Project between kilo post R69.4 and R78.9 (post mile R43.1 to 49.0) in Mendocino County, State of California. These actions grant approvals for the project.

DATES: By this notice, the FHWA is advising the public of final agency actions subject to 23 U.S.C. 139(I)(1). A claim seeking judicial review of the Federal agency actions on the highway project will be barred unless the claim is filed on or before July 5, 2007. If the Federal law that authorizes judicial review of a claim provides a time period of less than 180 days for filing such claim, then that shorter time period still applies.

FOR FURTHER INFORMATION CONTACT: Maiser Khaled, Director, Project Development & Environment, Federal Highway Administration, 650 Capitol Mall, Suite 4-100, Sacramento, CA 95814, weekdays between 7 a.m. and 4 p.m., telephone 916-498-5020, maiser.khaled@fhwa.dot.gov. For U.S. Fish and Wildlife Service, Ray Bosch, Wildlife Biologist, Endangered Species Program, Arcata Fish and Wildlife Office, telephone 707-822-7201, ray_bosch@fws.gov.

For National Oceanic and Atmospheric Administration—National Marine Fisheries Service, Thomas Daugherty, Fisheries Biologist, Ukiah Office, Telephone 707-468-4057, Tom.Daugherty@noaa.gov. For California Department of Transportation, Jeremy Ketchum, Senior Environmental Planner, 2389 Gateway Oaks Dr., Sacramento, CA 95833, weekdays between 8 a.m. and 5 p.m., (916) 274-0621, jeremy_ketchum@dot.ca.gov.

SUPPLEMENTARY INFORMATION: Notice is hereby given that the FHWA and other Federal agencies have taken final agency actions subject to 23 U.S.C. 139(I)(1) by issuing approvals for the following highway project in the State of California: U.S. Route 101 Willits Bypass Project between kilo post R69.4 and R78.9 (post mile R43.1 to 49.0) in Mendocino County. This project would reduce delays, improve safety, and provide at least a Level of Service C for interregional traffic on U.S. 101 in the vicinity of the City of Willits, Mendocino County, California. This would be accomplished by constructing a four-lane freeway around the city of Willits, in Mendocino County, from 0.8 mile south of the Haehl Overhead to 2.9 miles south of Reynolds Highway. The actions by the Federal agencies, and the laws under which such actions were taken, are described in the Final Environmental Impact Statement (FEIS) for the project, approved on November 25, 2006, in the Record of Decision (ROD) issued on December 18, 2006, and in other documents in the FHWA project files. The FEIS, ROD, and other project records are available by contacting the FHWA or the California Department of Transportation at the addresses provided above. The FHWA FEIS and ROD can be viewed and downloaded from the project Web site http://www.dot.ca.gov/dist1/d1projects/willits/reports.htm or viewed at public libraries in the project area.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303].

4. Wildlife: Endangered Species Act [16 U.S.C. 1531-1544 and Section 1536], Marine Mammal Protection Act [16 U.S.C. 1361], Anadromous Fish Conservation Act [16 U.S.C. 757(a)-757(g)], Migratory Bird Treaty Act [16 U.S.C. 703-712], Magnuson-Stevens Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act, 33 U.S.C. 1251-1377 (Section 404, Section 401, Section 319); Coastal Barrier Resources Act, 16 U.S.C. 3501-3510; Coastal Zone Management Act, 16 U.S.C. 1451-1465; Land and Water Conservation Fund (LWCF), 16 U.S.C. 4601-4604; 42 U.S.C. 300(f)-300(j)(6); Emergency Wetlands Resources Act, 16 U.S.C. 3921, 3931; TEA-21 Wetlands Mitigation, 23 U.S.C. 103(b)(6)(m), 133(b)(11); Flood Disaster Protection Act, 42 U.S.C. 4001-4128.

8. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

9. Executive Orders: E.O. 11990 Protection of Wetlands; E.O. 11988 Floodplain Management; E.O. 12898, Federal Actions to Address Environmental Justice in Minority Populations and Low Income Populations; E.O. 11593 Protection and Enhancement of Cultural Resources; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to his program.)

Authority: 23 U.S.C. 139(I)(1).

Issued on: December 28, 2006.
Gene K. Fong,
Division Administrator, Federal Highway Administration.

[FR Doc. E6-22596 Filed 1-4-07; 8:45 am]

BILLING CODE 4910-RY-P